FEDERAL COMMUNICATIONS COMMISSION

47 CFR Parts 0, 4, 9, 11, and 90

[GN Docket No. 25-133; FCC 25-80; FR ID 326222]

Delete, Delete, Delete

AGENCY: Federal Communications Commission.

ACTION: Direct final rule; request for comments.

SUMMARY: The Direct Final Rule would repeal approximately 21 rule provisions and rule parts, totaling 2,927 words and covering approximately 7 pages in the Code of Federal Regulations, that plainly no longer serve the public interest because they have sunset by operation of law; govern an expired event; regulate an obsolete technology; are no longer used in practice by the FCC or licensees; or are otherwise duplicative, outdated, or unnecessary. The Direct Final Rule would find prior notice and comment “unnecessary” under the Administrative Procedure Act (APA) before repealing these rules, but elect to provide an opportunity for input on that assessment, with the identified rules automatically being repealed absent any significant adverse comments in response to this Direct Final Rule.

DATES: Effective March 16, 2026 without further action, unless significant adverse comment is received by February 3, 2026. If adverse comment is received, the Federal Communications Commission will publish a timely withdrawal in the Federal Register informing the public of the provisions of the rule[s] for which significant adverse comments were received, and elimination will not take effect.

ADDRESSES: You may submit comments, identified by GN Docket No. 25-133, electronically or on paper. See SUPPLEMENTARY INFORMATION for specific information and addresses for electronic or paper filings.

FOR FURTHER INFORMATION CONTACT: James Wiley, Federal Communications Commission, Public Safety and Homeland Security Bureau, James.Wiley@fcc.gov, (202) 418-1678.

SUPPLEMENTARY INFORMATION: This is a summary of the Commission's Direct Final Rule, GN Docket No. 25-133, FCC 25-80, adopted on November 20, 2025 and released on November 24, 2025. The full text of this document is available for public inspection and can be downloaded at https://www.fcc.gov/document/fcc-deletes-outdated-public-safety-rules. Alternative formats are available for people with disabilities (Braille, large print, electronic files, audio format) by sending an email to fcc504@fcc.gov or calling the Commission's Consumer and Governmental Affairs Bureau at (202) 418-0530 (voice) or (202) 418-0432 (TTY).

Comment Period and Filing Procedures. Interested parties may file comments on or before the dates provided in the DATES section of this document. Comments must be filed in GN Docket No. 25-133. Comments may be filed using the Commission's Electronic Comment Filing System (ECFS). See Electronic Filing of Documents in Rulemaking Proceedings, 63 FR 24121 (1998).

• All filings must be addressed to the Commission's Secretary, Office of the Secretary, Federal Communications Commission.

• Electronic Filers: Comments may be filed electronically using the internet by accessing the ECFS: https://www.fcc.gov/ecfs/.

• Paper Filers: Parties who choose to file by paper must file an original and one copy of each filing. If more than one docket or rulemaking number appears in the caption of this proceeding, filers must submit two additional copies for each additional docket or rulemaking number.

• Commercial overnight mail (other than U.S. Postal Service Express Mail and Priority Mail) must be sent to 9050 Junction Drive, Annapolis Junction, MD 20701.

• U.S. Postal Service first-class, Express, and Priority mail must be addressed to 45 L Street NE, Washington, DC 20554.

Procedural Matters

Paperwork Reduction Act of 1995 Analysis: This document does not contain new or modified information collections subject to the Paperwork Reduction Act of 1995 (PRA), 44 U.S.C. 3501-3521. In addition, therefore, it does not contain any new or modified information collection burden for small business concerns with fewer than 25 employees, pursuant to the Small Business Paperwork Relief Act of 2002, 44 U.S.C. 3506(c)(4).

Congressional Review Act: The Commission has determined, and the Administrator of the Office of Information and Regulatory Affairs, Office of Management and Budget concurs, that this rule is “non-major” under the Congressional Review Act, 5 U.S.C. 804(2). The Commission will send a copy of this Direct Final Rule to Congress and the Government Accountability Office pursuant to 5 U.S.C. 801(a)(1)(A).

Synopsis

I. Introduction

This Direct Final Rule continues our efforts to modernize our regulatory framework by rescinding facially obsolete public safety and homeland security rules and requirements in parts 0, 4, 9, 10, 11, and 90 of our rules. In this proceeding, we have undertaken a sweeping review eventually aimed at eliminating outdated rules, reducing unnecessary regulatory burdens, accelerating infrastructure deployment, promoting network modernization, and spurring innovation. Our objective is to streamline, simplify, and smartly deregulate across multiple fronts simultaneously to better serve the public and support technological progress.

In initiating this proceeding, we generally sought to identify rules that are outdated, obsolete, unlawful, anticompetitive, or otherwise no longer in the public interest. In today's item, we specifically focus on the repeal of certain public safety and homeland security rules in various parts for which prior notice and comment are unnecessary, but for which we elect to provide an opportunity for input on that assessment. Absent any significant adverse comments in response to this Direct Final Rule, these rules will be repealed.

II. Discussion

Good Cause to Forgo Notice and Comment. Under the Administrative Procedure Act (APA), when an agency for good cause finds that notice and public comment “are impracticable, unnecessary, or contrary to the public interest,” it need not follow notice and comment procedures before modifying or repealing rules. Prior notice and comment are “unnecessary” when ` “the administrative rule is a routine determination, insignificant in nature and impact, and inconsequential to the industry and to the public.' ”

We have identified approximately 21 rule provisions and rule parts, totaling 2,927 words and covering approximately 7 pages in the Code of Federal Regulations, that plainly no longer serve the public interest. One such rule provision, 47 CFR 9.20, has sunset by operation of law and ceased to be effective on September 1, 2025.

We have also found rule provisions that no longer serve the public interest because they govern expired events. Section 4.17(e) sets the compliance deadline for the Mandatory Disaster Response Initiative as May 1, 2024, a date that has passed. Section 9.11(a) regulates fixed VoIP services prior to 2021 and non-fixed VoIP services prior to 2022, dates which have passed and, in any case, specifies regulations that have been superseded by subsection 9.11(b). Section 9.19(d)(1) sets the deadline for initial 911 reliability certifications as October 15, 2014, a date which has passed. Section 10.11 establishes implementation timelines for Wireless Emergency Alerts (WEA) and the change of “Presidential Alert” to “National Alert,” which have passed. Section 10.230 establishes election procedures related to an initial compliance deadline that has since been deleted from the rules. Section 10.260 establishes compliance deadlines for requirements to notify subscribers of non-participation in WEA, which have passed. Section 11.31(d)(2) establishes a compliance deadline for discontinuing use of the National Information Center EAS originator code, which has since passed. Section 11.34(g) establishes a compliance deadline for EAS equipment acceptability, which has since passed. Section 11.21(d)-(f) establishes one-time reporting obligations for participants in the Emergency Alert System (EAS) and State Emergency Communications Committees (SECCs) about making EAS content available in languages other than English, the deadlines for which have passed, and an ongoing requirement to report updates on these efforts, which have never been triggered. Section 11.31(d)(2) establishes a compliance deadline for discontinuing use of the National Information Center EAS originator code, which has since passed. Section 11.34(g) establishes a compliance deadline for EAS equipment acceptability, which has since passed.

Other sections no longer serve the public interest because they regulate obsolete technology. Section 9.10(n) allows CMRS providers who offer dispatch service to meet the basic 911 requirements and Phase I and II requirements of section 9.10 either by complying with the requirements or by routing the customer's emergency calls through a dispatcher, but the Commission does not believe there are any CMRS providers who currently offer dispatch service that would be subject to this rule. Section 11.16 describes obsolete procedures for priority-based processing of national, state, and local alerts that are no longer followed, as reflected by the deletion of the Emergency Alert Termination (EAT) alert code in 2012. Section 90.20(d)(28) denotes frequencies unavailable for assignment in Puerto Rico or the Virgin Islands to protect an air-to-ground radio service that no longer exists.

We also identified rule sections that govern technology that is no longer used in practice by the FCC or licensees. Section 11.11(e) describes procedures for voluntary participation in EAS that need not be reflected in regulations as they do not create binding obligations for any entity. Section 11.21(b) describes Local Area EAS Plans without creating binding obligations for any entity and that, if created, would exist as part of the State EAS Plan, which is subject to separate requirements. Section 11.21(c) describes an “FCC Mapbook” document that has never been developed. Section 11.43 describes procedures to allow entities to voluntarily participate in EAS that need not be codified and that are not used in practice. Section 11.47 specifies that entities may contact the FCC for guidance on EAS participation, which does not need to be codified, and authorizes broadcast stations to transmit EAS alerts using subcarriers, which is not used in practice.

Finally, we identified sections that are otherwise duplicative, outdated, or unnecessary. Section 0.181(d) references the Joint Telecommunications Resources Board (JTRB), which no longer exists as of 2012. Sections 0.191(q) and 0.192 provide for creation of the Emergency Response Interoperability Center (ERIC), which was rendered unnecessary in light of the formation of First Responder Network Authority in 2012. Section 4.1(b) directs providers subject to the rule to use the definitions section of part 4 to determine whether they are subject to the rules, which is self-evident and unnecessary to codify. Section 10.450(c) is unnecessary given provisions in 47 CFR 10.430. Applying the “good cause” standard discussed above, we conclude that prior notice and comment are unnecessary before repealing the rules identified in the Appendix.

Direct Final Rule Process. In this Direct Final Rule, we follow the processes previously outlined by the Commission regarding direct final rules, which we briefly summarize here. At times when the Commission has found prior notice and comment unnecessary before modifying or repealing rules, it simply adopted the relevant rule change without any additional process. Although we reserve the right to proceed in that manner, we elect in this decision to proceed using what is known as a “direct final rule” process. By proceeding through a direct final rule, the Commission chooses to provide expanded opportunities for public comment when it is not legally required to do so under the “good cause” standard. Although the Commission has adopted specific rules codified in the Code of Federal Regulations related to notice-and-comment rulemaking procedures under 47 CFR part. 1, subpart. C, there is no legal requirement that we adopt rules before employing processes permitted by the APA and the Communications Act. For example, 47 U.S.C. 154(j) says that absent previously specified procedural obligations to the contrary, “[t]he Commission may conduct its proceedings in such manner as will best conduce to the proper dispatch of business and to the ends of justice.” Under a direct final rule process, rule changes are adopted without prior notice and comment, but accompanied by an opportunity for the public to file comments—and if we conclude that significant adverse comments have been filed, the relevant rule changes would not take effect until after a full notice and comment process.

In particular, we will publish this item adopting direct final rules in the Federal Register, and allow for comment from interested parties within 20 days of Federal Register publication. Until 20 days after Federal Register publication, this shall be a “permit-but-disclose” proceeding for purposes of our ex parte rules. Because this comment process is directed toward the discrete objective of the direct final rule process, and to avoid unwarranted delay in that process, we prohibit filings addressing the rule changes contemplated in this Direct Final Rule more than 20 days after Federal Register publication, absent further direction from the Commission published in the Federal Register. Up until that date, we find it in the public interest to continue to operate under permit-but-disclosure procedures in this regard, consistent with the status of the In Re: Delete, Delete, Delete proceeding more generally. This both accords with the purpose of the comment process for direct final rules, and is similar (though not identical) to actions the Commission has taken in other contexts to provide a defined end-point for public filings to enable the Commission to focus its attention on the submissions already before it. In the event that a petition for reconsideration of this action is filed, we will subsequently specifically address any comment process associated with such a petition in light of the prohibition on filings addressing the rule changes more than 30 days after Federal Register publication.

The direct final rules will be effective 60 days after Federal Register publication. To the extent that the Commission receives comments on these direct final rules, we will evaluate whether they are significant adverse comments that warrant further procedures before changing the rules. In our assessment, we plan to be guided by the Public Engagement and Good Cause Recommendation of the Administrative Conference of the United States (ACUS) at 89 FR at 106409 that “[a]n agency should consider any comment received during direct final rulemaking to be a significant adverse comment if the comment explains why: a. The [direct final] rule would be inappropriate, including challenges to the rule's underlying premise or approach; or b. The [direct final] rule would be ineffective or unacceptable without a change.” The touchstone for this analysis is whether a comment materially calls into question the conclusion that prior notice and comment is unnecessary under the APA, which is the predicate for use of direct final rule procedures. While we expect the formulation provided by ACUS to be a useful guide for conducting that analysis, our statutory determination of “good cause” to forgo notice and comment ultimately represents the critical issue, rather than the particular language used by ACUS.

In the event that we conclude that significant adverse comments have been filed, the Public Safety and Homeland Security Bureau (the Bureau) will publish a timely withdrawal in the Federal Register so that this Direct Final Rule does not become effective until any appropriate additional procedures have been followed. If significant adverse comments are filed only with respect to a subset of the rule revisions addressed by this Direct Final Rule, the Bureau will withdraw the portions of the Direct Final Rule that were subject to significant adverse comments. For example, if a significant adverse comment is filed regarding a single rule within a direct final rule addressing multiple rules, we will publish a withdrawal addressing only that rule.

In the event that no comments are filed in response to this Direct Final Rule, we do not anticipate publishing a confirmation of the effective date in the Federal Register, but simply will allow the rule changes to take effect as originally specified. Where comments are filed, but none of the comments are significant adverse comments, where warranted by the record the Bureau will issue a Public Notice that will briefly explain why any comments filed were not determined to be significant adverse comments. Although the Public Notice is a document in a non-notice and comment rulemaking proceeding, nothing in that document is required to be published in the Federal Register by the APA given that the Public Notice is not itself adopting new or modified rules. As a result, the Bureau also need not publish the Public Notice in the Federal Register to establish the date of “public notice” for the Public Notice under § 1.4(b)(1) of the rules—which is limited to documents in rulemaking proceedings “required by the Administrative Procedure Act to be published in the Federal Register”—and instead the date of the Public Notice will be the release date per § 1.4(b)(4).

III. Ordering Clauses

Accordingly, it is ordered that, pursuant to sections 4(i), 4(j), and 303(r) of the Communications Act of 1934, as amended, 47 U.S.C. 154(i), (j), 303(r), this Direct Final Rule is adopted. Except as specified in the Direct Final Rule process summarized above, this Direct Final Rule shall be effective upon Federal Register publication of the rule changes set forth in the Appendix, which also shall serve as the date of public notice of that action.

It is further ordered that the amendments of the Commission's rules as set forth in the Appendix shall be effective 60 days after Federal Register publication. In the event that significant adverse comments are filed, the Public Safety and Homeland Security Bureau shall publish a timely document in the Federal Register withdrawing the rule so that the rule change does not become effective until any additional procedures have been followed. In the event that significant adverse comments are filed with respect to only a subset of the rule revisions, we direct the Public Safety and Homeland Security Bureau to publish a timely document in the Federal Register withdrawing only such rule so that the rule change does not become effective until any additional procedures have been followed.

It is further ordered that the Office of the Managing Director, Performance Program Management, shall send a copy of this Direct Final Rule in a report to be sent to Congress and the Government Accountability Office pursuant to the Congressional Review Act, 5 U.S.C. 801(a)(1)(A).

List of Subjects

47 CFR Part 0

Organization and functions (Government agencies).

47 CFR Part 4

Communications common carriers, Communications equipment, Reporting and recordkeeping requirements.

47 CFR Part 9

Communications, Communications common carriers, Communications equipment, Telephone, Telecommunications, Reporting and recordkeeping requirements.

47 CFR Part 10

Communications, Communications common carriers, Communications equipment, Electronic products, Radio, Telecommunications.

47 CFR Part 11

Radio, Television.

47 CFR Part 90

Radio

Federal Communications Commission
Marlene Dortch,
Secretary.

Final Rules

For the reasons discussed in the preamble, the Federal Communications Commission amends parts 0, 4, 9, 11, and 90 of Title 47 of the Code of Federal Regulations as follows:

PART 0—COMMISSION ORGANIZATION

1. The authority citation for part 0 continues to read as follows:

Authority: 47 U.S.C. 151, 154(i), 154(j), 155, 225, 409, and 1754, unless otherwise noted.

§ 0.181 [Amended]

2. Section 0.181 is amended by removing and reserving paragraph (d).

§ 0.191 [Amended]

3. Section 0.191 is amended by removing and reserving paragraph (q).

§ 0.192 [Removed and Reserved]

4. Remove and reserve § 0.192.

PART 4—DISRUPTIONS TO COMMUNICATIONS

5. The authority citation for part 4 continues to read as follows:

Authority: 47 U.S.C. 34-39, 151, 154, 155, 157, 201, 251, 307, 316, 615a-1, 1302(a), and 1302(b); 5 U.S.C. 301, and Executive Order no. 10530.

§ 4.1 [Amended]

6. Section 4.1 is amended by removing paragraph (b) and redesignating paragraph (c) as paragraph (b).

§ 4.17 [Amended]

7. Section 4.17 is amended by removing and reserving paragraph (e).

PART 9—911 REQUIREMENTS

8. The authority citation for part 9 continues to read as follows:

Authority: 47 U.S.C. 151-154, 152(a), 155(c), 157, 160, 201, 202, 208, 210, 214, 218, 219, 222, 225, 251(e), 255, 301, 302, 303, 307, 308, 309, 310, 316, 319, 332, 403, 405, 605, 610, 615, 615 note, 615a, 615b, 615c, 615a-1, 616, 620, 621, 623, 623 note, 721, and 1471, and Section 902 of Title IX, Division FF, Pub. L. 116-260, 134 Stat. 1182, unless otherwise noted.

Subpart C—Commercial Mobile Radio Service

§ 9.10 [Amended]

9. Section 9.10 is amended by removing and reserving paragraph (n).

Subpart D—Interconnected Voice Over internet Protocol Services

§ 9.11 [Amended]

10. Section 9.11 is amended by removing and reserving paragraph (a).

Subpart H—Resiliency, Redundancy, and Reliability of 911 Communications

11. Section 9.19 is amended by revising paragraph (c) introductory text and removing and reserving paragraph (d)(1).

§ 9.19 Reliability of covered 911 service providers.

* * * * *

(c) On October 15 of each year, a certifying official of every covered 911 service provider shall submit a certification to the Commission as follows.

* * * * *

§ 9.20 [Removed and Reserved]

12. Remove and reserve § 9.20.

PART 10—WIRELESS EMERGENCY ALERTS

13. The authority citation for part 10 continues to read as follows:

Authority: 47 U.S.C. 151, 152, 154(i), 154(n), 201, 301, 303(b), 303(e), 303(g), 303(j), 303(r), 307, 309, 316, 403, 544(g), 606, 1201, 1202, 1203, 1204, and 1206.

Subpart A—General Information

§ 10.11 [Removed and Reserved]

14. Remove and reserve § 10.11.

Subpart B—Election To Participate in Wireless Emergency Alerts System

§ 10.230 [Removed and Reserved]

15. Remove and reserve § 10.230.

§ 10.260 [Removed and Reserved]

16. Remove and reserve § 10.260.

Subpart D—Alert Message Requirements

§ 10.450 [Amended]

17. Section 10.450 is amended by removing and reserving paragraph (c).

PART 11—EMERGENCY ALERT SYSTEM (EAS)

18. The authority citation for part 11 continues to read as follows:

Authority: 47 U.S.C. 151, 154 (i) and (n), 303(r), 544(g), 606, 1201, and 1206.

Subpart A—General

§ 11.11 [Amended]

19. Section 11.11 is amended by removing and reserving paragraph (e).

§ 11.16 [Removed and Reserved]

20. Revise and republish § 11.21 to read as follows:

§ 11.21 State EAS Plans

(a) EAS plans contain guidelines which must be followed by EAS Participants' personnel, emergency officials, and National Weather Service (NWS) personnel to activate the EAS. The plans include the EAS header codes and messages that will be transmitted by key EAS sources (NP, LP, SP and SR). State and local plans contain unique methods of EAS message distribution such as the use of the Radio Broadcast Data System (RBDS). The plans also include information on actions taken by EAS Participants, in coordination with state and local governments, to ensure timely access to EAS alert content by non-English speaking populations. The plans must be reviewed and approved by the Chief, Public Safety and Homeland Security Bureau (Bureau), prior to implementation to ensure that they are consistent with national plans, FCC regulations, and EAS operation. The plans are administered by State Emergency Communications Committees (SECC). The Commission encourages the chief executive of each State to establish an SECC if their State does not have an SECC, and if the State has an SECC, to review the composition and governance of the SECC. The Bureau will review and approve plans, including annual updated plans, within 60 days of receipt, provided that no defects are found requiring the plan to be returned to the SECC for correction and resubmission. If a plan submitted for approval is found defective, the SECC will be notified of the required corrections, and the corrected plan may be resubmitted for approval, thus starting the 60-day review and approval period anew. The approval dates of State EAS Plans will be listed on the Commission's website.

(b) State EAS Plans contain guidelines that must be followed by EAS Participants' personnel, emergency officials, and National Weather Service (NWS) personnel to activate the EAS. The Plans include information on actions taken by EAS Participants, in coordination with state and local governments, to ensure timely access to EAS alert content by non-English speaking populations. State EAS Plans must be updated on an annual basis. State EAS Plans must include the following elements:

(1) A list of the EAS header codes and messages that will be transmitted by key EAS sources (NP, LP, SP, and SR);

(2) Procedures for state emergency management officials, the National Weather Service, and EAS Participant personnel to transmit emergency information to the public during an emergency via the EAS, including the extent to which the state's dissemination strategy for state and local emergency alerts differs from its strategy for the National Emergency Message;

(3) Procedures for state and local activations of the EAS, including a list of all authorized entities participating in the State or Local Area EAS;

(4) A monitoring assignment matrix, in computer readable form, clearly showing monitoring assignments and the specific primary and backup path for the National Emergency Message (EAN) from the NPWS to all key EAS sources (using the uniform designations specified in § 11.18) and to each station in the plan, organized by operational areas within the state. If a state's emergency alert system is capable of initiating EAS messages formatted in the Common Alerting Protocol (CAP), its EAS State Plan must include specific and detailed information describing how such messages will be aggregated and distributed to EAS Participants within the state, including the monitoring requirements associated with distributing such messages; State EAS Plans must indicate whether any of the EAS monitoring sources in the monitoring assignment matrix are primary stations adopting program originating boosters and, if so, whether the boosters will simulcast the primary station or remain off-air during periods when they are not originating programming;

(5) State procedures for conducting special EAS tests and Required Monthly Tests (RMTs);

(6) A list of satellite-based communications resources that are used as alternate monitoring assignments and present a reliable source of EAS messages; and

(7) The SECC governance structure utilized by the state in order to organize state and local resources to ensure the efficient and effective delivery of a National Emergency Message, including the duties of the SECC, the membership selection process utilized by the SECC, and the administrative structure of the SECC.

(8) Certification by the SECC Chairperson or Vice-Chairperson that the SECC met (in person, via teleconference, or via other methods of conducting virtual meetings) at least once in the twelve months prior to submitting the annual updated plan to review and update the plan.

Subpart B—Equipment Requirements

§ 11.31 [Amended]

22. Section 11.31 is amended by removing and reserving paragraph (d)(2).

§ 11.34 [Amended]

23. Section 11.34 is amended by removing and reserving paragraph (g).

Subpart C—Organization

§ 11.43 [Removed and Reserved]

24. Remove and reserve § 11.43.

§ 11.47 [Removed and Reserved]

25. Remove and reserve § 11.47.

PART 90—PRIVATE LAND MOBILE RADIO SERVICES

26. The authority citation for part 24 continues to read as follows:

Authority: 47 U.S.C. 154(i), 161, 303(g), 303(r), 332(c)(7), 1401-1473

Subpart B—Public Safety Radio Pool

§ 90.20 [Amended]

27. Section 90.20 is amended by removing and reserving paragraph (d)(28).

[FR Doc. 2026-00612 Filed 1-13-26; 8:45 am]

BILLING CODE 6712-01-P